DEPARTMENT OF THE INTERIOR

Fish and Wildlife Service

[Docket No. FWS-R4-ES-2021-0124; FXES11130400000EA-123-FF04EF4000]

Receipt of Incidental Take Permit Application and Proposed Habitat Conservation Plan for the Eastern Indigo Snake, Citrus County, FL; Categorical Exclusion

AGENCY: Fish and Wildlife Service, Interior.

ACTION: Notice of availability; request for comment and information.

SUMMARY: We, the Fish and Wildlife Service (Service), announce receipt of an application from Florida Department of Transportation—Florida's Turnpike Enterprise (applicant) (Suncoast Parkway 2) for an incidental take permit (ITP) under the Endangered Species Act. The applicant requests the ITP to take the federally listed eastern indigo snake incidental to construction of the four-lane Suncoast Parkway 2 in Citrus County, Florida. We request public comment on the application, which includes the applicant's proposed habitat conservation plan (HCP), and the Service's preliminary determination that this HCP qualifies as “low-effect,” categorically excluded, under the National Environmental Policy Act. To make this determination, we used our environmental action statement and low-effect screening form, both of which are also available for public review.

DATES: We must receive your written comments on or before December 6, 2021.

ADDRESSES:

Obtaining Documents: You may obtain copies of the documents online in Docket No. FWS-R4-ES-2021-0124 at http://www.regulations.gov.

Submitting Comments: If you wish to submit comments on any of the documents, you may do so in writing by any of the following methods:

• Online: http://www.regulations.gov. Follow the instructions for submitting comments on Docket No. FWS-R4-ES-2021-0124.

• U.S. mail: Public Comments Processing, Attn: Docket No. FWS-R4-ES-2021-0124; U.S. Fish and Wildlife Service, MS: PRB/3W, 5275 Leesburg Pike, Falls Church, VA 22041-3803.

FOR FURTHER INFORMATION CONTACT: Zakia Williams, by telephone at 904-731-3119 or via email at zakia_williams@fws.gov. Individuals who are hearing or speech impaired may call the Federal Relay Service at 1-800-877-8339 for TTY assistance.

SUPPLEMENTARY INFORMATION: We, the Fish and Wildlife Service (Service), announce receipt of an application from Florida Department of Transportation—Florida's Turnpike Enterprise (applicant) for an incidental take permit (ITP) under the Endangered Species Act of 1973, as amended (ESA; 16 U.S.C. 1531 et seq.). The applicant requests the ITP to take the federally listed eastern indigo snake (Drymarchon corais couperii) incidental to the construction of the four-lane Suncoast Parkway 2 (project) in Citrus County, Florida. We request public comment on the application, which includes the applicant's proposed habitat conservation plan (HCP), and the Service's preliminary determination that this HCP qualifies as “low-effect,” categorically excluded, under the National Environmental Policy Act (NEPA; 42 U.S.C. 4231 et seq.). To make this determination, we used our environmental action statement and low-effect screening form, which are also available for public review.

Project

Florida Department of Transportation—Florida's Turnpike Enterprise requests a 10-year ITP to take no more than two eastern indigo snakes (one male and one female) and one eastern indigo snake egg clutch incidental to the construction of the Suncoast Parkway 2. The take is based on the estimated home range of the species and the conversion of approximately 140 acres (ac) of occupied eastern indigo snake foraging and sheltering habitat during construction of the roadway from SR 44 to CR 486 in Sections 29, 30, 32, Township 18S, Range 18E, Citrus County, Florida. The applicant proposes to mitigate for take of the eastern indigo snake by implementing conservation measures in the Standard Protection Measures for the Eastern Indigo Snake (Service 2013), which primarily focus on the preservation of the species during land conversion. The applicant will also install and maintain silt fence and chain-link fence along the entire project boundary and the perimeter of the project area to deter the species from entering the roadway and to reduce wildlife interactions within the construction zone. In addition to these measures, the applicant will contribute $22,820, which is calculated as $163 per ac of converted habitat, to the Wildlife Foundation of Florida—Eastern Indigo Snake Conservation Fund. This contribution will be used to help ensure the long-term viability of the species by maintaining and enhancing existing populations via habitat conservation, restoration, and management; monitoring the status of the extant populations; identifying and securing additional eastern indigo snake populations and habitat; repatriating populations through reintroductions; and supporting research that guides land management and provides demographic and ecological data. The Service would require the applicant to make the contribution to the Fund prior to engaging in activities associated with the project.

Public Availability of Comments

Before including your address, phone number, email address, or other personal identifying information in your comment, be aware that your entire comment, including your personal identifying information, may be made available to the public. While you may request that we withhold your personal identifying information, we cannot guarantee that we will be able to do so.

Our Preliminary Determination

The Service has made a preliminary determination that the applicant's project, including land clearing, infrastructure building, landscaping, and the proposed mitigation measures, would individually and cumulatively have a minor or negligible effect on the eastern indigo snake and the environment. Therefore, we have preliminarily concluded that the ITP for this project would qualify for categorical exclusion and the HCP is low effect under our NEPA regulations at 43 CFR 46.205 and 46.210. A low-effect HCP is one that would result in (1) minor or negligible effects on federally listed, proposed, and candidate species and their habitats; (2) minor or negligible effects on other environmental values or resources; and (3) impacts that, when considered together with the impacts of other past, present, and reasonably foreseeable similarly situated projects, would not over time result in significant cumulative effects to environmental values or resources.

Next Steps

The Service will evaluate the application and the comments received to determine whether to issue the requested permit. We will also conduct an intra-Service consultation pursuant to section 7 of the ESA to evaluate the effects of the proposed take. After considering the preceding findings, we will determine whether the permit issuance criteria of section 10(a)(1)(B) of the ESA have been met. If met, the Service will issue ITP number PER0017213 to Florida Department of Transportation—Florida's Turnpike Enterprise.

Authority

The Service provides this notice under section 10(c) of the ESA (16 U.S.C. 1531 et seq.) and its implementing regulations (50 CFR 17.32) and NEPA (42 U.S.C. 4321 et seq.) and its implementing regulations (40 CFR 1506.6 and 43 CFR 46.305).

Robert L. Carey,
Division Manager, Environmental Review, Florida Ecological Services Field Office.

[FR Doc. 2021-24126 Filed 11-4-21; 8:45 am]

BILLING CODE 4333-15-P